DEPARTMENT OF AGRICULTURE

Forest Service

Coeur d'Alene River Ranger District Small Sales EIS, Idaho Panhandle National Forests, Kootenai and Shoshone Counties, ID

AGENCY: Forest Service, USDA.

ACTION: Notice; intent to prepare environmental impact statement.

SUMMARY: The Forest Service will prepare an environmental impact statement (EIS) to analyze and disclose the environmental effects of expanding the Lookout Pass Ski & Recreation Area. The proposal would implement revised portions of the Lookout Pass Master Development Plan approved by the Idaho Panhandle National Forest (IPNF) on June 10, 1997. A Special Use Permit would be required for the proposed action, which would authorize additional development, construction, and operation of ski area facilities on National Forest System lands.

DATES: Comments concerning the scope of the analysis should be received in writing by May 22, 2000.

ADDRESSES: Send written comment to Barry Dutton, Land & Water Consulting Inc., P.O. Box 8254, Missoula, MT 59807.

FOR FURTHER INFORMATION CONTACT: Barry Dutton or Nancy Winslow at Land and Water Consulting Inc., (406) 721-0354, or Glenn Truscott at the Coeur d'Alene River Ranger District, (208) 644-2318.

SUPPLEMENTARY INFORMATION: The proposed activities are located adjacent to the existing ski area, approximately 6 miles east of Mullan, Idaho, and adjacent to Interstate 90 at the Idaho/Montana border. The new project area is on the north and south flanks of Runt Mountain at the upper ends of the St. Regis and Coeur d'Alene Rivers. The existing ski area is on the east side of Runt Mountain, which is also in the headwaters of the St. Regis and Coeur d'Alene Rivers.

Lookout Pass Ski Area currently covers approximately 202 acres on Runt Mountain. The ski area and proposed expansion project straddle the Montana-Idaho border and the boundary between the Lolo and Idaho Panhandle National Forests. The Idaho Panhandle National Forests have been designated the lead regulatory agency for the project. The proposed action would increase the ski area by 364 acres, to a total of approximately 566 acres.

The proposed expansion would include 11 new ski runs (covering approximately 145 acres), 6,800 feet of new chair lifts, one primitive road between ski runs (for tree removal, chair lift construction, and possibly skier use), and 1 acre of new parking. The existing lodge would be expanded by 4,000 square feet. A 6,400 square-foot guest services building would be added to provide meeting rooms, a U.S. Forest Service interpretive center, child care facilities, caretaker's quarters, and overnight lodging. The rental show would be enlarged by 1,100 square feet and 960 feet would be added to the maintenance building. The existing fueling station would be upgraded, and 20 recreational vehicle (RV) hook-ups would be added to the existing parking lot. Approximately 1 acre of the of the rope tow and beginner areas would be regraded and revegetated. The septic system that serves the lodge, guest services building, and rental shop would be expanded. Water would be supplied by an existing well near the base area.

The proposed action would add approximately 920 vertical feet of skiing on the south side of Runt Mountain in the Lolo National Forest. In addition, 1,240 vertical feet of skiing would be added on the north side of Runt Mountain in the Idaho Panhandle National Forests. New ski runs would be classified as expert and advanced-intermediate. Two new chair lifts would serve the new ski runs: one on the north side of runt Mountain and one on the south side of Runt Mountain. The power line to the ski area has sufficient capacity to meet the anticipated needs of the proposed expansion.

All of the proposed buildings, RV hookups, new parking, and septic systems would be located in the existing base area adjacent to Interstate 90. Disturbed soil areas outside the base area would include primitive trails between runs (for timber harvest, construction, and possibly skier use), lift tower foundations, lift stations, buried water lines, and buried power lines. Limited soil disturbance would occur during stump removal on ski runs.

There would be no private land development associated with the proposed expansion. All of the proposed development would occur entirely within National Forest System lands. No inventoried roadless areas would be affected by the proposed expansion.

The USDA Forest Service is the lead agency for this proposal. District Ranger Susan Jeheber-Matthews is the responsible official.

The Forest Service believes it is important at this early stage to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts Wisconsin Heritages, Inc. v. Harris, 490 F. Supp. 1334, 1338 (E.D. Wis. 1980). Because of these court rulings, it is very important that those interested in this proposed action participate by the close of the 45-day comment period on the draft EIS so that substantive comments and objections are made available to the Forest Service at a time when it can meaningfully consider them and respond to them in the final environmental impact statement.

To assist the Forest Service in identifying and considering issues and concerns on the proposed action, comments on the draft environmental impact statement should be as specified as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 11, 2000.
Susan Jeheber-Matthews,
District Ranger.

[FR Doc. 00-10065 Filed 4-21-00; 8:45 am]

BILLING CODE 3410-11-M